DEPARTMENT OF ENERGY

Federal Energy Regulatory Commission

Combined Notice of Filings

Take notice that the Commission has received the following Natural Gas Pipeline Rate and Refund Report filings:

Filings Instituting Proceedings

Docket Numbers: RP13-362-000.

Applicants: Equitrans, L.P.

Description: Negotiated Rate Service Agreement—Rice Drilling B LLC to be effective 12/1/2012.

Filed Date: 12/3/12.

Accession Number: 20121203-5041.

Comments Due: 5 p.m. ET 12/17/12.

Docket Numbers: RP13-363-000.

Applicants: El Paso Natural Gas Company, L.L.C.

Description: MGI Non-Conforming TSAs Filing to be effective 1/1/2013.

Filed Date: 11/30/12.

Accession Number: 20121130-5476.

Comments Due: 5 p.m. ET 12/12/12.

Docket Numbers: RP13-364-000.

Applicants: Gulf South Pipeline Company, LP.

Description: Filing to Incorporate Approved Tariff Changes (RP13-208 & RP13-265) to be effective 12/1/2012.

Filed Date: 12/3/12.

Accession Number: 20121203-5077.

Comments Due: 5 p.m. ET 12/17/12.

Docket Numbers: RP13-365-000.

Applicants: TC Offshore LLC.

Description: Non-Conforming Agreements to be effective 12/3/2012.

Filed Date: 12/3/12.

Accession Number: 20121203-5099.

Comments Due: 5 p.m. ET 12/17/12.

Docket Numbers: RP13-366-000.

Applicants: Eastern Shore Natural Gas Company.

Description: Storage Tracker Filing to be effective 11/1/2012.

Filed Date: 12/3/12.

Accession Number: 20121203-5110.

Comments Due: 5 p.m. ET 12/17/12.

Docket Numbers: RP13-367-000.

Applicants: CenterPoint Energy Gas Transmission Comp.

Description: CEGT LLC—December 2012 Negotiated Rate Filing to be effective 12/1/2012.

Filed Date: 12/3/12.

Accession Number: 20121203-5119.

Comments Due: 5 p.m. ET 12/17/12.

Docket Numbers: RP13-368-000.

Applicants: Iroquois Gas Transmission System, L.P.

Description: Iroquois Gas Transmission System, L.P. submits tariff filing per 154.204: 12/03/12 Negotiated Rates—ConocoPhillips Company (RTS) Amend 1 to be effective 12/3/2012.

Filed Date: 12/3/12.

Accession Number: 20121203-5164.

Comments Due: 5 p.m. ET 12/17/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-1125-001.

Applicants: Gulf States Transmission LLC.

Description: Gulf States Transmission NAESB 2.0 Compliance with Order Filing to be effective 12/1/2012.

Filed Date: 12/3/12.

Accession Number: 20121203-5108.

Comments Due: 5 p.m. ET 12/17/12.

Docket Numbers: RP12-818-001.

Applicants: Crossroads Pipeline Company.

Description: Non-Conforming Agreement—NIPSCO—Compliance Filing to be effective 11/1/2012.

Filed Date: 12/3/12.

Accession Number: 20121203-5135.

Comments Due: 5 p.m. ET 12/17/12.

Docket Numbers: RP13-260-001.

Applicants: High Point Gas Transmission, LLC.

Description: Compliance NAESB Resubmittal Filing to be effective 12/1/2012.

Filed Date: 12/3/12.

Accession Number: 20121203-5055.

Comments Due: 5 p.m. ET 12/17/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: December 4, 2012.
Nathaniel J. Davis, Sr.,
Deputy Secretary.

[FR Doc. 2012-29829 Filed 12-10-12; 8:45 am]

BILLING CODE 6717-01-P